DEPARTMENT OF COMMERCE

National Oceanic and Atmospheric Administration

15 CFR Part 922

50 CFR Part 660

[Docket No. 0612242956-7411-02]

RIN 0648-AT18

Establishment of Marine Reserves and a Marine Conservation Area Within the Channel Islands National Marine Sanctuary; Announcement of Effective Date

AGENCY: National Marine Sanctuary Program (NMSP), National Ocean Service (NOS), National Oceanic and Atmospheric Administration (NOAA), Department of Commerce (DOC).

ACTION: Announcement of effective date.

SUMMARY: NOAA published a final rule on May 24, 2007 (72 FR 29208) that established marine reserves and a marine conservation area in the Channel Islands National Marine Sanctuary. Under the National Marine Sanctuaries Act, the final regulations would automatically take effect at the end of 45 days of continuous session of Congress beginning on May 24, 2007. The 45-day review period ended on Sunday, July 29, 2007. This document confirms the effective date as July 29, 2007.

DATES: Effective Date: The final rule published on May 24, 2007 (72 FR 29208) took effect on July 29, 2007.

FOR FURTHER INFORMATION CONTACT: Sean Hastings, (805) 884-1472; e-mail: Sean.Hastings@noaa.gov.

Dated: August 3, 2007.
William Corso,
Deputy Assistant Administrator for Ocean Services and Coastal Zone Management.

[FR Doc. 07-3915 Filed 8-13-07; 8:45 am]

BILLING CODE 3510-NK-M